NUCLEAR REGULATORY COMMISSION

[Docket No. 50-271]

Vermont Yankee Nuclear Power Station; Notice of Withdrawal of Application for Amendment to Facility Operating License

The U.S. Nuclear Regulatory Commission (the Commission) has granted the request of Entergy Nuclear Operations, Inc. (the licensee) to withdraw its December 15, 2004, application for proposed amendment to Facility Operating License No. DPR-28 for the Vermont Yankee Nuclear Power Station, located in Windham County.

The proposed amendment would have revised the Technical Specifications pertaining to control rod operability, scram time and control rod accumulator technical specification surveillance testing requirements. The Commission had previously issued a Notice of Consideration of Issuance of Amendment published in the Federal Register on January 18, 2005 (70 FR 2889). However, by letter dated August 10, 2006, the licensee withdrew the proposed change.

For further details with respect to this action, see the application for amendment dated December 15, 2004, as supplemented on December 12, 2005, and July 6, 2006, and the licensee's letter dated August 10, 2006, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 28th day of August 2006.
For the Nuclear Regulatory Commission.
James Shea,
Project Manager, Plant Licensing Branch I-1, Division of Operating Reactor Licensing, Office of Nuclear Reactor Regulation.

[FR Doc. E6-14525 Filed 8-31-06; 8:45 am]

BILLING CODE 7590-01-P